ENVIRONMENTAL PROTECTION AGENCY

[FRL-9982-68-Region 3]

Anacostia River Watershed: Data Solicitation in Support of Revising Total Maximum Daily Loads for Debris, Floatables, Trash

AGENCY: Environmental Protection Agency (EPA).

ACTION: Solicitation for data.

SUMMARY: The Environmental Protection Agency (EPA) is seeking readily available data and information on debris, floatables, and/or trash (hereafter referred to as “trash”) in the Anacostia River watershed for use in the development of a total maximum daily load (TMDL). The Anacostia River watershed covers portions of the District of Columbia and Prince George's and Montgomery Counties in Maryland. A map of the Anacostia River watershed is available from EPA Region 3's website at: https://www.epa.gov/tmdl/impaired-waters-and-tmdls-region-3.

DATES: Data submissions to EPA must be received by, or postmarked on or before, October 23, 2018.

ADDRESSES: Data submissions should be sent to Ms. Jillian Adair, Water Protection Division (3WP30), U.S. Environmental Protection Agency Region 3, 1650 Arch Street, Philadelphia, PA 19103-2029, or by electronic mail to adair.jillian@epa.gov. Electronic mail submissions including body text and attachments are limited to 25 megabytes. In addition, EPA cannot receive electronic mail attachments in ZIP format (.zip). For additional information on submission formats, visit EPA Region 3's website at: https://www.epa.gov/tmdl/impaired-waters-and-tmdls-region-3.

FOR FURTHER INFORMATION CONTACT: For additional information, contact Jillian Adair at (215) 814-5713 or adair.jillian@epa.gov.

SUPPLEMENTARY INFORMATION: Section 303(d) of the Clean Water Act requires that each State identify those waters (called “water quality-limited segments”) for which existing technology-based pollution controls are not stringent enough to attain or maintain State water quality standards and for which total maximum daily loads (TMDLs) must be prepared. A TMDL is an estimate of the maximum amount of a pollutant that a waterbody can assimilate without violating water quality standards. This total load includes pollutants that come from end-of-pipe dischargers, stormwater runoff, surface runoff from non-permitted areas (i.e. agriculture, open areas, forest, etc.), as well as a “margin of safety”, which accounts for uncertainties in the estimated load. TMDLs are important because they provide a framework to achieve water quality standards in a watershed. TMDLs inform other federal and state programs of the necessary pollutant reductions needed by source to achieve water quality standards.

On September 21, 2010, EPA approved a trash TMDL for the Anacostia River submitted jointly by the Maryland Department of the Environment (MDE) and the District of Columbia Department of Energy and the Environment (DOEE). The TMDL report can be accessed at: http://www.mde.state.md.us/programs/Water/TMDL/ApprovedFinalTMDLs/Pages/tmdl_final_anacostia_trash.aspx.

On September 19, 2016, the Natural Resources Defense Council (NRDC) filed suit in the U.S. District Court for the District of Columbia seeking vacatur of EPA's approval [Civil Action No. 16-1861 (JDB)]. The Court ruled in favor of NRDC on March 30, 2018 and directed EPA to develop or approve replacement TMDLs. In light of the Court's Order, EPA is working with MDE and DOEE to determine the appropriate direction to take with developing new or revised TMDLs. An evaluation of data that has become available since approval of the original TMDLs will provide valuable insights into this determination.

EPA would appreciate your assistance in obtaining all readily available data and other information that would benefit the development of TMDLs for trash impairments in the Anacostia River watershed. Please consider these points in responding to this solicitation:

• Any studies, surveys or other statistically significant information on the quantities of trash that would interfere with the general population's use and enjoyment of the river for purposes such as swimming, boating and fishing. This data call is not intended as a user survey, and accordingly, EPA is not seeking the subjective views of individuals at this time.

• Documents or datasets that provide information regarding water quality conditions and sources associated with quantities of trash in the water. Potentially relevant data sources include: trash monitoring data, trash clean-up data, trash remediation project data, municipal separate storm sewer system (MS4) annual reports, etc. EPA is also interested in any other information data providers believe might be relevant.

• Trash data can be accounted for through measurements of weight, volume, count, or other appropriate measure. While EPA acknowledges that photographs may document the presence of trash, photographs are less useful for quantifying trash. Accordingly, EPA discourages submission of photographs as a method of quantifying trash extent and impairment.

• Please limit data submissions to only the waterbodies within the Anacostia River watershed for the period of August 2009 through present. If data collection efforts are currently underway, EPA would also appreciate an accounting of what is being collected and when it may become publicly available.

• Data and reports delivered in electronic format are preferred, as available. Specifically, datasets in Excel or a compatible spreadsheet format will facilitate ease of use.

• Information regarding sampling methodologies, design, conditions (i.e., time of day, weather conditions during and preceding the sampling), sampling locations (i.e., geographical coordinates, maps), peer review, and quality assurance procedures applied would also be very beneficial. Please include such information and citations where available.

• Please include names, contacts, and affiliations with your data submission.

Dated: August 9, 2018.
Dominique Lueckenhoff,
Acting Director, Water Protection Division, U.S. Environmental Protection Agency, Region III.

[FR Doc. 2018-18410 Filed 8-23-18; 8:45 am]

BILLING CODE 6560-50-P